DEPARTMENT OF ENERGY

Federal Energy Regulatory Commission

[Project No. 14616-001]

Oregon State University; Notice of Application and Applicant-Prepared EA Accepted for Filing, Soliciting Motions To Intervene and Protests, and Soliciting Comments, and Final Recommendations, and Final Terms and Conditions, and Prescriptions

Take notice that the following hydroelectric application and applicant-prepared environmental assessment has been filed with the Commission and is available for public inspection.

a. Type of Application: Original License for Major Unconstructed Project.

b. Project No.: 14616-001.

c. Date filed: May 31, 2019, and amended on August 28, 2019.

d. Applicant: Oregon State University.

e. Name of Project: PacWave South Project.

f. Location: On the Pacific Ocean 6 nautical miles off the central Oregon coast near the city of Newport, in Lincoln County, Oregon. The project occupies 1,695 acres of United States submerged lands on the Outer Continental Shelf administered by the Bureau of Ocean Energy Management.

g. Filed Pursuant to: Federal Power Act 16 U.S.C. 791 (a)-825(r).

h. Applicant Contact: Cherise Gaffney, Stoel Rives LLP, 600 University St, Suite 3600, Seattle, WA 98101; (206) 386-7622; or email at cherise.gaffney@stoel.com.

i. FERC Contact: Jim Hastreiter at (503) 552-2760; or email at james.hastreiter@ferc.gov.

j. Deadline for filing motions to intervene and protests, comments, and final terms and conditions, recommendations, and prescriptions: 30 days from the issuance date of this notice; reply comments are due 45 days from the issuance date of this notice.

The Commission strongly encourages electronic filing. Please file motions to intervene and protests, comments, and final terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14616-001.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing.

l. The proposed PacWave South Project would consist of: (1) Four offshore test berths; (2) a maximum of 20 wave energy conversion (WEC) devices with a maximum total installed capacity of 20 megawatts; (3) various WEC devices including point absorbers, oscillating water column, overtopping, attenuator, and “other” types that utilize a combination of technology designs; (4) various anchoring systems including gravity based anchors, drag anchors, and embedment anchors, consisting of steel, concrete, or a mixture of steel and concrete; (5) single- or three-point mooring systems consisting of chain, steel cables, or synthetic materials; (6) mooring infrastructure including surface buoys, subsurface floats, and chain, wire or rope, as catenary, tendon or bridle lines; (7) subsea connectors; (8) five buried 8.3-mile-long subsea transmission cables converging in a nearshore conduit; (9) up to five onshore 10-foot by 10-foot by 10-foot cable splice vaults (beach manholes), where the subsea cables would transition to terrestrial cables; (10) five buried 0.5-mile-long subterranean transmission cables connecting to a power monitoring and conditioning facility; (11) grid-interconnection at Central Lincoln Public Utility District substation; and (12) appurtenant facilities.

m. A copy of the application is available for review at the Commission in the Public Reference Room or may be viewed on the Commission's website at http://www.ferc.gov using the “eLibrary” link. Enter the docket number excluding the last three digits in the docket number field to access the document. For assistance, contact FERC Online Support at FERCOnlineSupport. A copy is also available for inspection and reproduction at the address in item h above.

Register online at http://www.ferc.gov/docs-filing/esubscription.asp to be notified via email of new filings and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, NOTICE OF INTENT TO FILE COMPETING APPLICATION, COMPETING APPLICATION, COMMENTS, REPLY COMMENTS, RECOMMENDATIONS, TERMS AND CONDITIONS, or PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. A license applicant must file no later than 60 days following the date of issuance of this notice: (1) A copy of the water quality certification; (2) a copy of the request for certification, including proof of the date on which the certifying agency received the request; or (3) evidence of waiver of water quality certification.

p. Procedural schedule: The application will be processed according to the following schedule. Revisions to the schedule will be made as appropriate.

Commission issues EA: November 2019.

Dated: August 29, 2019.
Nathaniel J. Davis, Sr.,
Deputy Secretary.

[FR Doc. 2019-19342 Filed 9-6-19; 8:45 am]

BILLING CODE 6717-01-P